INTERNATIONAL TRADE COMMISSION

[Investigation 332-430]

U.S.-Chile Free Trade Agreement: Advice Concerning the Probable Economic Effect

AGENCY: United States International Trade Commission.

ACTION: Institution of investigation and scheduling of public hearing.

EFFECTIVE DATE: April 23, 2001.

SUMMARY: Following receipt of a request on April 17, 2001, from the United States Trade Representative (USTR), the Commission instituted investigation No. 332-430, U.S.-Chile Free Trade Agreement: Advice Concerning the Probable Economic Effect, under section 332(g) of the Tariff Act of 1930 (19 U.S.C. 1332(g)).

FOR FURTHER INFORMATION CONTACT: Industry-specific information may be obtained from James Lukes, Project Leader (202-205-3426 or lukes@usitc.gov) or David Lundy, Chief of Industrial Minerals and Nonferrous Metals (202-205-3439 or lundy@usitc.gov), Office of Industries, U.S. International Trade Commission, Washington, DC 20436. For information on the legal aspects of this investigation, contact William Gearhart of the Office of the General Counsel (202-205-3091 or gearhart@usitc.gov). Hearing impaired individuals are advised that information on this matter can be obtained by contacting the TDD terminal on (202) 205-1810. General information concerning the Commission may also be obtained by accessing its Internet server (http://www.usitc.gov). The public record for this investigation may be viewed on the Commission's electronic docket (EDIS-ON-LINE) at http://dockets/.usitc.gov/eol/public.

BACKGROUND: As requested by USTR, the Commission will include the following in its report—

1. Advice (to the President) with respect to each item in chapters 1 through 97 of the Harmonized Tariff Schedule of the United States (HTS), as to the probable economic effect of providing duty-free treatment for imports of products of Chile on industries in the United States producing like or directly competitive articles and on consumers;

2. Advice (to the President) with respect to each product sector, of the probable economic effect on U.S. exports to Chile of the removal of Chilean import duties; and

3. A review of U.S. service transactions with Chile that (1) provides an overview of the nature and extent of such transactions; (2) highlights key U.S. service industries that export services to Chile or provide services through U.S.-owned affiliates; (3) identifies principal nontariff barriers that impede U.S. participation in these industries in the Chilean market; and (4) assesses the effects of such barriers on U.S. service providers.

As requested by the USTR, in preparing its advice with respect to the removal of U.S. duties on imports from Chile, the Commission will assume that any known U.S. nontariff barrier will not be applicable to such imports; and the Commission will note in its report any instance in which the continued application of a U.S. nontariff barrier would result in different advice with respect to the effect of the removal of the duty. Similarly, in preparing its advice with respect to the removal of Chilean duties on U.S. products, the Commission will assume that any known Chilean nontariff barriers will not be applicable to U.S. products; and will note any instance where the continued application of such a Chilean nontariff barrier would result in different advice.

The USTR requested the Commission to provide the advice in a confidential report by October 17, 2001. In his letter to the Commission, the USTR stated that the United States and Chile are engaged in negotiations to reach a comprehensive bilateral free trade agreement. The USTR stated that further advice from the Commission is needed to assist in the process of achieving an agreement.

PUBLIC HEARING: A public hearing in connection with the investigation will be held at the U.S. International Trade Commission Building, 500 E Street SW., Washington, DC, beginning at 9:30 a.m. on May 30, 2001. All persons shall have the right to appear, by counsel or in person, to present information and to be heard. Requests to appear at the public hearing should be filed with the Secretary, United States International Trade Commission, 500 E Street SW., Washington, DC 20436, no later than 5:15 p.m., May 22, 2001. Any prehearing briefs (original and 14 copies) should be filed not later than 5:15 p.m., May 24, 2001; the deadline for filing post-hearing briefs or statements is 5:15 p.m., June 13, 2001. To allow sufficient time for full consideration, the Commission encourages persons who appear at the public hearing to submit any prepared statements and accompanying material to the Secretary by 5:15 p.m., May 24, 2001. In the event that, as of the close of business on May 22, 2001, no witnesses are scheduled to appear at the hearing, the hearing will be canceled. Any person interested in attending the hearing as an observer or non-participant may call the Secretary to the Commission (202-205-1806) after May 22, 2001, to determine whether the hearing will be held.

WRITTEN SUBMISSIONS: In lieu of or in addition to participating in the hearing, interested parties are invited to submit written statements (original and 14 copies) concerning the matters to be addressed by the Commission in its report on this investigation. Commercial or financial information that a person desires the Commission to treat as confidential must be submitted in accordance with section 201.6 of the Commission's rules of practice and procedure (19 CFR 201.6). The Commission's Rules do not authorize filing of submissions with the Secretary by facsimile or electronic means. All written submissions, except for confidential business information, will be made available in the Office of the Secretary of the Commission for inspection by interested parties. To be assured of consideration by the Commission, written statements relating to the Commission's report should be submitted to the Commission at the earliest practical date and should be received no later than the close of business on June 13, 2001. All submissions should be addressed to the Secretary, United States International Trade Commission, 500 E Street SW., Washington, DC 20436.

Persons with mobility impairments who will need special assistance in gaining access to the Commission should contact the Office of the Secretary at 202-205-2000.

LIST OF SUBJECTS: Chile, tariffs, and imports.

By order of the Commission.
Issued: April 24, 2001.
Donna R. Koehnke,
Secretary.

[FR Doc. 01-10527 Filed 4-26-01; 8:45 am]

BILLING CODE 7020-02-P